DEPARTMENT OF HOUSING AND URBAN DEVELOPMENT

[Docket No. FR-5130-N-03]

Privacy Act of 1974; New System of Records, Line of Credit Control System (LOCCS, A-67), HUD/CFO-03

AGENCY: Office of the Chief Information Officer, HUD.

ACTION: Establish a New Privacy Act System of Records.

SUMMARY: HUD proposes to establish a new record system to add to its inventory of systems of records subject to the Privacy Act of 1974 (5 U.S.C. 552a), as amended. The proposed new system of records identified as HUD/CFO-03, entitled Line of Credit Control System (LOCCS, A-67) will be used to monitor and manage payments and collections from persons doing business with HUD.

DATES: Effective Date: This action will be effective without further notice on June 18, 2007 unless comments are received that would result in a contrary determination.

Comments Due Date: June 18, 2007.

ADDRESSES: Interested persons are invited to submit comments regarding this new system of records to the Rules Docket Clerk, Office of General Counsel, Department of Housing and Urban Development, 451 Seventh Street, SW., Room 10276, Washington, DC 20410-0500. Communications should refer to the above docket number and title. Facsimile (Fax) comments are not acceptable. A copy of each communication submitted will be available for public inspection and copying between 8 a.m. and 5 p.m. weekdays at the above address.

FOR FURTHER INFORMATION CONTACT: Jeanette Smith, Departmental Privacy Act Officer, telephone number (202) 402-8062 or Gail B. Dise, Assistant Chief Financial Officer for Systems, telephone number (202) 402-3749. (These are not toll free numbers.)

SUPPLEMENTARY INFORMATION: Title 5 U.S.C. 552a(e)(4) and (11) provide that the public be afforded a 30-day period in which to comment on the new record system.

The new system report, as required by 5 U.S.C. 552a(r) of the Privacy Act was submitted to the Committee on Homeland Security and Governmental Affairs of the United States Senate, the Committee on Government Reform and Oversight of the House of Representatives, and the Office of Management and Budget (OMB) pursuant to paragraph 4c of Appendix I to OMB Circular No. A-130, Federal Agency Responsibilities for Maintaining Records About Individuals, dated June 25, 1993 (58 FR 36075, July 2, 1993).

Authority: 5 U.S.C. 552a.

Dated: May 7, 2007.
Lisa Schlosser,
Chief Information Officer.

HUD/CFO-3

Name:

Line of Credit Control Systems (LOCCS, A-67).

System location:

HUD Headquarters and field offices.

Categories of individuals covered by the system:

Grantees, subsidy, and project recipients; commercial vendors; builders, developers, contractors, and appraisers.

Categories of records in the system:

Vendors' name, address, social security number, bank account, bank routing number, income, financial data, funds control records, receivable records; and contract records; payment vouchers records; deposit and receipt records; disbursement and cancelled check records, subsidiary ledger records.

Authority for maintenance of the system:

Sec. 113 of the Budget and Accounting Act of 1950 31 U.S.C. 66a. (Pub. L. 81-784).

Purpose (s):

The purpose of the system of records is to monitor and manage payments and collections from persons doing business with HUD.

Routine uses of records maintained in the system, including categories of users and the purposes of such uses:

In addition to those disclosures generally permitted under 5 U.S.C. 552a(b) of the Privacy Act, other routine uses are as follows:

(a) To the U.S. Treasury—for disbursements and adjustments thereof;

(b) To the Internal Revenue Service—for reporting payments for goods and services and for reporting of discharge indebtedness; and

(c) To the Department of the Treasury to conduct computer matching programs for the purpose of matching LOCCS vendor information with Treasury vendor numbers to validate Tax Identification Numbers (TIN) for individuals and companies.

Disclosure to consumer reporting agencies:

Disclosures pursuant to 5 U.S.C. 552a(b)(12). Pursuant to 5 U.S.C. 552a(b)(12), disclosures may be made from the record system to consumer reporting agencies as defined in the Fair Credit Reporting Act (15 U.S.C. 1681a(f) or the Federal Claims Collection Act of 1966, 31 U.S.C. 3701(a)(3)). The disclosure is limited to information necessary to establish the identity of the vendor, including name, address and taxpayer identification number; the amount, status, and history of the claim, and the agency or program under which the claim arose for the sole purpose of allowing the consumer reporting agency to prepare a credit report.

Policies and practices for storing, retrieving, accessing, retaining, and disposing of records in the system:

Storage:

Electronic files on stored primarily on Storage Area Network (SAN) and back up files are stored on tapes.

Retrievability:

By name; schedule number; control number; receipt number; voucher number; contract number, and Grant Agreement number.

Safeguards employed include:

Background screening, limited authorizations and access, with access limited to authorized personnel and technical restraints employed with regard to accessing the records; access to automated systems by authorized users by passwords.

Retention and disposal:

Are in accordance with GSA schedules of retention and disposal.

System Manager(s)and address:

Assistant Chief Financial Office for Systems, Office of the Chief Financial Officer, Department of Housing and Urban Development, 451 Seventh Street, SW., Washington, DC 20410.

Notification procedure:

For information assistance, or inquiry about existence of records, contact the Privacy Act Officer at the appropriate 451 Seventh Street, SW., Room 4176, Washington, DC 20410, in accordance with the procedures in 24 CFR part 16.

Record access procedures:

The Department's rules for providing access to records to the individual concerned appears in 24 CFR part 16. If additional information or assistance is required, contact the Privacy Act Officer at HUD, 451 Seventh Street, SW., Room 4176, Washington, DC 20410.

Contesting record procedures:

The procedures for requesting amendment or correction of records appear in 24 CFR part 16. If additional information is needed, contact (i) in relation to contesting contents of records, the Privacy Act Officer at HUD, 451 Seventh Street, SW., Room 4178, Washington, DC 20410; and (ii) in relation to appeals of initial denials, HUD, Departmental Privacy Appeals Officer, Office of General Counsel, 451 Seventh Street, SW., Washington, DC 20410.

Record source categories:

Subject individuals; other individuals; financial institutions, private corporations or firms doing business with HUD; federal and non-federal governmental agencies; HUD personnel.

Exemptions from certain provisions of the Act:

None.

[FR Doc. 07-2456 Filed 5-17-07; 8:45 am]

BILLING CODE 4210-67-P